DEPARTMENT OF COMMERCE

National Oceanic and Atmospheric Administration

[I.D. 071100B]

Pacific Fishery Management Council; Public Meeting

AGENCY: National Marine Fisheries Service (NMFS), National Oceanic and Atmospheric Administration (NOAA), Commerce.

ACTION: Notice of public meeting.

SUMMARY: The Pacific Fishery Management Council's (Council) Ad-Hoc Allocation Committee will hold a meeting which is open to the public.

DATES: The meeting will begin on Wednesday, August 9 at 8 a.m. and will continue through Thursday, August 10, as necessary.

ADDRESSES: The meeting will be held at the Pacific Fishery Management Council Office, 2130 SW Fifth Avenue, Suite 224, Portland, OR.

Council address: Pacific Fishery Management Council, 2130 SW Fifth Avenue, Suite 224, Portland, OR 97201.

FOR FURTHER INFORMATION CONTACT: Jim Glock, Fishery Management Coordinator, telephone: (503) 326-6352.

SUPPLEMENTARY INFORMATION: The purpose of the meeting is to develop preliminary options for allocations and other management measures involved in rebuilding plans for canary rockfish and cowcod rockfish. In addition, the Committee will evaluate current Council and catch levels of lingcod and bocaccio, and may propose inseason adjustments. The Committee will discuss the types of provisions that may be necessary to prevent further overfishing, to reduce bycatch of overfished species in the various groundfish fisheries, and to reduce bycatch in non-groundfish fisheries. The Committee will prepare recommendations and contribute to draft rebuilding plans for cowcod and canary rockfish that will be presented to the Council at its September meeting. If available, the Committee may also review new assessments for Pacific ocean perch and coastwide lingcod stocks and may propose revisions to the current rebuilding plans and management measures.

Although non-emergency issues not contained in this agenda may come before this Committee for discussion, those issues may not be the subject of formal action during this meeting. Action will be restricted to those issues specifically listed in this notice and any issues arising after publication of this notice that require emergency action under Section 305(c) of the Magnuson-Stevens Fishery Conservation and Management Act, provided the public has been notified of the Council's intent to take final action to address the emergency.

Special Accommodations

The meeting is physically accessible to people with disabilities. Requests for sign language interpretation or other auxiliary aids should be directed to Ms. Carolyn Porter at (503) 326-6352 at least 5 days prior to the meeting date.

Dated: July 11, 2000.
Richard W. Surdi,
Acting Director, Office of Sustainable Fisheries, National Marine Fisheries Service.

[FR Doc. 00-18017 Filed 7-14-00; 8:45 am]

BILLING CODE 3510-22-F